DEPARTMENT OF TRANSPORTATION

Coast Guard

33 CFR Parts 100 and 165

[USCG-2000-7386]

Safety Zones, Security Zones, and Special Local Regulations

AGENCY: Coast Guard, DOT.

ACTION: Notice of temporary rules issued.

SUMMARY: This document provides required notice of substantive rules adopted by the Coast guard and temporarily effective between January 1, 2000 and March 31, 2000 which were not published in the Federal Register. This quarterly notice lists temporary local regulations, security zones, and safety zones of limited duration and for which timely publication in the Federal Register was not possible.

DATES: This notice lists temporary Coast Guard regulations that became effective and were terminated between January 1, 2000 and March 31, 2000.

ADDRESSES: The docket Management Facility maintains the public docket for this notice. Documents indicated in this notice will be available for inspection or copying at the Docket Management Facility, U.S. Department of Transportation, Room PL-401, 400 Seventh Street SW., Washington, DC 20593-0001 between 9 a.m. and 5 p.m., Monday through Friday, except Federal Holidays. You may electronically access the public docket for this notice on the Internet at http://dms.dot.gov.

FOR FURTHER INFORMATION CONTACT: For questions on this notice contact Lieutenant Bruce Walker, Office of Regulations and Administrative Law, telephone (202) 267-6233. For questions on viewing, or on submitting material to the docket, contact Dorothy Beard, Chief, Dockets, Department of Transportation (202) 866-9329.

SUPPLEMENTARY INFORMATION: District Commanders and Captains of the Port (COTP) must be immediately responsive to the safety needs of the waters within their jurisdiction; therefore, District Commanders and COTPs have been delegated the authority to issue certain local regulations. Safety zones may be established for safety or environmental purposes. A safety zone may be stationary and described by fixed limits or it may be described as a zone around a vessel in motion. Security zones limit access to vessels, ports, or waterfront facilities to prevent injury or damage. Special local regulations are issued to enhance the safety of participants and spectators at regattas and other marine events. Timely publication of these regulations in the Federal Register is often precluded when a regulation responds to an emergency, or when an event occurs without sufficient advance notice. However, the affected public is informed of these regulations through Local Notices to mariners, press releases, and other means. Moreover, actual notification is provided by Coast Guard patrol vessels enforcing the restrictions imposed by the regulation. Because mariners are notified by Coast Guard officials on-scene prior to enforcement action, Federal Register notice is not required to place the special local regulation, security zone, or safety zone in effect. However, the Coast Guard, by law, must publish in the Federal Register notice of substantive rules adopted. To meet this obligation without imposing undue expense on the public, the Coast Guard periodically publishes a list of these temporary special local regulations, security zones, and safety zones. Permanent regulations are not included in this list because they are published in their entirety in the Federal Register. Temporary regulations may also be published in their entirety if sufficient time is available to do so before they are placed in effect or terminated. The safety zones, special local regulations and security zones listed in this notice have been exempted from review under Executive Order 12866 because of their emergency nature, or limited scope and temporary effectiveness.

The following regulations were placed in effect temporarily during the period January 1, 2000 and March 31, 2000, unless otherwise indicated.

Dated: June 2, 2000.
Pamela M. Pelcovits,
Chief, Office of Regulations and Administrative Law.

COTP Quarterly Report
COPT Docket | Location | Type | Effective date
GUAM 00-018 | TINIAN ENTRANCE CHANNEL | SAFETY ZONE | 01/22/2000
HOUSTON-GALVESTON 00-001 | HOUSTON, TX | SAFETY ZONE | 02/17/2000
HOUSTON-GALVESTON MSU 00-001 | GULF INTRACOASTAL WATERWAYS, M. 440 TO 442 | SAFETY ZONE | 01/25/2000
HOUSTON-GALVESTON MSU 00-002 | HOUSTON SHIP CHANNEL BETWEEN BUOYS 38-42 | SAFETY ZONE | 01/29/2000
HOUSTON-GALVESTON MSU 00-003 | GULF INTRACOASTAL WATERWAY, MILE MARKER 396 | SAFETY ZONE | 03/10/2000
LA/LB 00-002 | PORT HUENEME HARBOR, CA | SECURITY ZONE | 01/31/2000
LOUISVILLE 00-001 | OHIO RIVER M. 472 TO 476 | SAFETY ZONE | 01/08/2000
MEMPHIS 00-013 | WHITE RIVER | SAFETY ZONE | 02/03/2000
NEW ORLEANS 00-001 | LWR MISSISSIPPI RIVER, M. 94 TO 96 | SAFETY ZONE | 02/08/2000
NEW ORLEANS 00-002 | LWR MISSISSIPPI RIVER, M. 430 TO 0 | SAFETY ZONE | 02/26/2000
NEW ORLEANS 00-003 | LWR MISSISSIPPI RIVER, M. 228 TO 231 | SAFETY ZONE | 03/24/2000
NEW ORLEANS 00-004 | LWR MISSISSIPPI RIVER, M. 94 TO 96 | SAFETY ZONE | 03/22/2000
NEW ORLEANS 00-005 | LWR MISSISSIPPI RIVER, M. 94.4 TO 97.2 | SAFETY ZONE | 03/22/2000
NEW ORLEANS 00-006 | LWR MISSISSIPPI RIVER, M. 94 TO 96 | SAFETY ZONE | 03/29/2000
NEW ORLEANS 99-034 | HARVEY CANAL, M. 3.4 TO 5.5 | SAFETY ZONE | 01/01/2000
PADUCAH 00-002 | OHIO RIVER | SAFETY ZONE | 01/05/2000
PADUCAH 00-003 | M/V W.H.ZIMMER, OHIO RIVER, M 973 TO 981 | SAFETY ZONE | 02/26/2000
PADUCAH 00-004 | M/V W.H.ZIMMER, OHIO RIVER, 977.8 TO 980.5 | SAFETY ZONE | 02/26/2000
PITTSBURGH 00-001 | ALLEGHENY RIVER, M. 1, W. END BRIDGE, OH | SAFETY ZONE | 01/01/2000
SAN JUAN 00-002 | SAN JUAN HARBOR, PR | SAFETY ZONE | 01/06/2000
SAN JUAN 00-003 | SAN JUAN HARBOR, PR | SAFETY ZONE | 01/10/2000
SUAN JUAN 00-027 | SAN JUAN HARBOR, PR | SAFETY ZONE | 03/29/2000
SOUTHEAST ALASKA 00-001 | NORTHERN EDGE 2000, SITKA HARBOR, AK | SECURITY ZONE | 03/05/2000
TAMPA 00-007 | TAMPA BAY, FL | SAFETY ZONE | 02/15/2000
TAMPA 00-024 | TAMPA BAY, FL | SAFETY ZONE | 03/18/2000
TAMPA 00-031 | WIGGINS PASS, FL | SAFETY ZONE | 03/29/2000

District Quarterly Report
District docket | Location | Type | Effective date
01-00-010 | U.S.S. SALEM, BOSTON HARBOR, BOSTON, MA | SAFETY ZONE | 02/23/2000
01-00-011 | PORTLAND, ME | SAFETY ZONE | 02/22/2000
01-00-013 | BATH IRON WORKS, BATH, ME | SAFETY ZONE | 03/18/2000
01-99-199 | BOSTON HARBOR, BOSTON, MA | SAFETY ZONE | 01/01/2000
05-00-001 | UPPER CHESAPEAKE BAY, MD | SAFETY ZONE | 03/01/2000
05-00-006 | WESTERN, BRANCH, ELIZABETH RIVER | SPECIAL LOCAL | 03/24/2000
05-00-007 | ATLANTIC OCEAN, N.C. 6 MILES SW, CAPE FEAR | SAFETY ZONE | 03/15/2000
07-00-011 | SAINT CROIX, USVI | SPECIAL LOCAL | 02/17/2000
07-00-019 | WATER BAY, SAINT THOMAS, USVI | SPECIAL LOCAL | 03/18/2000
07-00-021 | SAINT THOMAS, USVI | SPECIAL LOCAL | 03/17/2000

[FR Doc. 00-14654 Filed 6-8-00; 8:45 am]

BILLING CODE 4910-15-M